DEPARTMENT OF HOUSING AND URBAN DEVELOPMENT

[Docket No. FR-5500-FA-11]

Announcement of Funding Awards for the Self-Help Homeownership Opportunity Program (SHOP) for Fiscal Year 2011

AGENCY: Office of Community Planning and Development, HUD.

ACTION: Announcement of funding awards.

SUMMARY: In accordance with Section 102(a)(4)(C) of the Department of Housing and Urban Development Reform Act of 1989, this announcement notifies the public of funding decisions made by the Department in a competition for funding under the Fiscal Year 2011 (FY 2011) Notice of Funding Availability (NOFA) for the Self-Help Homeownership Opportunity Program (SHOP). This announcement contains the consolidated names and addresses of this year's award recipients under SHOP.

FOR FURTHER INFORMATION CONTACT: For questions concerning SHOP Program awards, contact Ginger Macomber, SHOP Program Manager, Office of Affordable Housing Programs, U.S. Department of Housing and Urban Development, 451 Seventh Street SW., Washington, DC 20410-4500, telephone (202) 402-4605. Hearing or speech-impaired individuals may access this number via TTY by calling the toll-free Federal Information Service at (800) 877-8339.

SUPPLEMENTARY INFORMATION: The SHOP program provides grants to national and regional nonprofit organizations and consortia that have experience in providing self-help housing. Grant funds are used to purchase land and install or improve infrastructure, which together may not exceed an average investment of $15,000 per dwelling unit. Low-income homebuyers contribute a minimum of 100 hours of sweat equity on the construction of their homes and/or the homes of other homebuyers participating in the local self-help housing program. Sweat equity can include, but is not limited to, assisting in the painting, carpentry, trim work, drywall, roofing and siding for the housing. Persons with disabilities can substitute administrative tasks. Donated volunteer labor is also required.

The SHOP funds together with the sweat equity and volunteer labor contributions significantly reduce the cost of the housing for the low-income homebuyers. The FY 2011 awards announced in this Notice were selected for funding in the competition posted on the grants.gov Web site. Applications were scored and selected for funding based on the selection criteria in the General Section and the SHOP program section.

The amount appropriated in FY 2011 to fund the SHOP grants was $26,676,540. The allocations for SHOP grantees are as follows:

Community Frameworks, 409 Pacific Avenue Suite 105, Bremerton, WA 98337 | $2,978,716
Habitat for Humanity International, 121 Habitat Street, Americus, GA 31709 | 14,664,239
Housing Assistance Council, 1025 Vermont Avenue Suite 606, Washington, DC 20005 | 8,333,535
Tierra del Sol Housing Corporation, Western States Housing Consortium, P.O. Box 2626, 880 Anthony Drive, Anthony, NM 88021 | 700,050
Total | 26,676,540

These non-profit organizations propose to distribute SHOP funds to several hundred local affiliates and consortium members that will acquire and prepare the land for construction, select homebuyers, coordinate the homebuyer sweat equity and volunteer efforts, and assist in the arrangement of interim and permanent financing for the homebuyers.

Dated: October 24, 2011.
Mercedes Márquez,
Assistant Secretary for Community Planning and Development.

[FR Doc. 2011-28434 Filed 11-1-11; 8:45 am]

BILLING CODE 4210-67-P